DEPARTMENT OF AGRICULTURE

Submission for OMB Review; Comment Request

April 3, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by May 7, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Regulations Governing the Inspection and Grading of Manufactured or Processed Dairy Products—Recordkeeping (Subpart B).

OMB Control Number: 0581-0110.

Summary of Collection: The Agricultural Marketing Act of 1946 (7 U.S.C. 1621 et seq.) directs the Department to develop programs that will provide for and facilitate the marketing of agricultural products. One of these programs is the USDA voluntary inspection and grading program for dairy products where these dairy products are graded according to U.S. grade standards by an USDA grader. Dairy processors, buyers, retailers, institutional users, and consumers have requested that such a program be developed to assure the uniform quality of dairy products purchased. For any service program to perform satisfactorily, there must be written guides and rules, which in this case are regulations for the provider and user.

Need and Use of the Information: The Agricultural Marketing Service will collect information to ensure that the dairy inspection program products are produced under sanitary conditions and buyers are purchasing a quality product. The information collected through recordkeeping are routinely reviewed and evaluated during the inspection of the dairy plant facilities for USDA approval. Without laboratory testing results required by recordkeeping, the inspectors would not be able to evaluate the quality of dairy products.

Description of Respondents: Business or other for-profit.

Number of Respondents: 369.

Frequency of Responses: Recordkeeping.

Total Burden Hours: 1,007.

Agricultural Marketing Service

Title: Dairy Products Mandatory Sales Reporting.

OMB Control Number: 0581-0274.

Summary of Collection: The Mandatory Price Reporting Act of 2010 amended § 273(d) of the Agricultural Marketing Act of 1946, requiring the Secretary of Agriculture to establish an electronic reporting system for certain manufacturers of dairy products to report sales information under a mandatory dairy product reporting program. Data collection for cheddar cheese, butter, dry whey, or nonfat dry milk sales is limited to manufacturing plants producing annually 1 million pounds or more of one of the surveyed commodities specified in the program.

Need and Use of the Information: Persons engaged in manufacturing dairy products are required to provide the Department of Agriculture (USDA) certain information, including the price, quantity, and moisture content, where applicable, of dairy products sold by the manufacturer. Various manufacturer reports are filed electronically on a weekly basis. Additional paper forms are filed by manufacturers on an annual basis to validate participation in the mandatory reporting program. Manufacturers and other persons storing dairy products must also report information on the quantity of dairy products stored. USDA publishes composites of the information obtained to help industry members make informed marketing decisions regarding dairy products. The information is also used to establish minimum prices for Class III and Class IV milk under Federal milk marketing orders. Without this information USDA would not be able to verify compliance with applicable regulations.

Description of Respondents: Businesses—Cheddar Cheese, 40 lb. Blocks.

Number of Respondents: 219.

Frequency of Responses: Reporting: On occasion; Weekly; Annually.

Total Burden Hours: 1,767.

Ruth Brown,
Departmental Information Collection Clearance Officer.

[FR Doc. 2018-07043 Filed 4-5-18; 8:45 am]

BILLING CODE 3410-02-P